DEPARTMENT OF VETERANS AFFAIRS

[OMB Control No. 2900-0427]

Agency Information Collection Activities Under OMB Review

AGENCY: Veterans Health Administration, Department of Veterans Affairs.

ACTION: Notice.

SUMMARY: In compliance with the Paperwork Reduction Act (PRA) of 1995 (44 U.S.C. 3501-21), this notice announces that the Veterans Health Administration (VHA), Department of Veterans Affairs, has submitted the collection of information abstracted below to the Office of Management and Budget (OMB) for review and comment. The PRA submission describes the nature of the information collection and its expected cost and burden and includes the actual data collection instrument.

DATES: Comments must be submitted on or before October 3, 2003.

FOR FURTHER INFORMATION OR A COPY OF THE SUBMISSION CONTACT: Denise McLamb, Records Management Service (005E3), Department of Veterans Affairs, 810 Vermont Avenue, NW., Washington, DC 20420, (202) 273-8030, FAX (202) 273-5981 or e-mail to: denise.mclamb@mail.va.gov. Please refer to “OMB Control No. 2900-0427.”

Send comments and recommendations concerning any aspect of the information collection to VA's OMB Desk Officer, OMB Human Resources and Housing Branch, New Executive Office Building, Room 10235, Washington, DC 20503, (202) 395-7316. Please refer to “OMB Control No. 2900-0427” in any correspondence.

SUPPLEMENTARY INFORMATION: Title and Form Number: Former POW Medical History, VA Form 10-0048.

OMB Control Number: 2900-0427.

Type of Review: Extension of a currently approved collection.

Abstract: VA Form 10-0048 will be used to collect data in response to Public Law 97-37 that liberalizes eligibility requirements and extends the existing benefits. The form is completed by veterans and submitted to a VA physician during a medical examination. Without this information VA physician would be unable to assess the health care, disability compensation or rehabilitation needs of Former Prisoners of War.

An agency may not conduct or sponsor, and a person is not required to respond to a collection of information unless it displays a currently valid OMB control number. The Federal Register Notice with a 60-day comment period soliciting comments on this collection of information was published on June 3, 2003, at page 33230.

Affected Public: Individuals or households.

Estimated Total Annual Burden: 1,575 hours.

Estimated Average Burden Per Respondent: 90 minutes.

Frequency of Response: One time.

Estimated Number of Respondents: 1,050.

Dated: August 15, 2003.
By direction of the Secretary.
Jacqueline Parks,
IT Specialist, Records Management Service.

[FR Doc. 03-22405 Filed 9-2-03; 8:45 am]

BILLING CODE 8320-01-P